DEPARTMENT OF THE TREASURY

Submission for OMB Review; Comment Request

April 25, 2003.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 4, 2003, to be assured of consideration.

Departmental Offices/Community Development Financial Institution (CDFI) Fund

OMB Number: 1559-0014.

Form Number: CDFI Form 0019.

Type of Review: Revision.

Title: New Markets Tax Credit (NMTC) Program—Community Development Entity (CDE) Certification Application.

Description: The purpose of the New Markets Tax Credit (NMTC) Program is to provide an incentive to investor in the form of a tax credit, which is expected to stimulate investment in new private capital that will facilitate economic and community development in low-income communities. Applicants must be certified as CDEs to apply for an allocation of tax credit activity under the NMTC Program.

Respondents: Business or other for-profit, not-for-profit institutions, State, local or tribal government.

Estimated Number of Respondents: 500.

Estimated Burden Hours Per Respondent: 5 hours.

Frequency of Response: Annually.

Estimated Total Reporting Burden: 2,500 hours.

Clearance Officer: Lois K. Holland, (202) 622-1563, Departmental Offices, Suite 11000, 1750 Pennsylvania Avenue, NW., Washington, DC 20220.

OMB Reviewer: Joseph F. Lackey, Jr., (202) 395-7316, Office of Management and Budget, Room 10235, New Executive Office Building, Washington, DC 20503.

Lois K. Holland,
Departmental Reports, Management Officer.

[FR Doc. 03-10988 Filed 5-2-03; 8:45 am]

BILLING CODE 4810-35-P